DEPARTMENT OF AGRICULTURE

Agricultural Marketing Service

7 CFR Parts 1005 and 1007

[Docket No. AO-388-A17 and AO-366-A46; DA-05-06-B]

Milk in the Appalachian and Southeast Marketing Areas; Termination of Proceeding

Correction

In proposed rule document 2014-10033, appearing on pages 25032 through 25033 in the issue of Friday, May 2, 2014, make the following correction:

On page 25032, in the first column, in the DATES section, “May 5, 2013” should read “May 5, 2014”.

[FR Doc. C1-2014-10033 Filed 5-8-14; 8:45 am]

BILLING CODE 1505-01-D